DEPARTMENT OF THE INTERIOR

Bureau of Land Management

[NV-056-1430-ES; N-60868]

Notice of Realty Action: Segregation Terminated, Lease/Conveyance for Recreation and Public Purposes

AGENCY: Bureau of Land Management, Interior.

ACTION: Segregation terminated, recreation and public purpose lease/conveyance.

SUMMARY: The following described public land in Las Vegas, Clark County, Nevada was segregated for exchange purposes on September 10, 1991 under serial number N-54981; on September 9, 1993 under serial number N-57773; on October 19, 1995 under serial number N-60073; on July 23, 1997 under serial number N-61855; and on July 23, 1997 under serial number N-66364. These exchange segregations will be terminated on November 22, 2001. The land has been examined and found suitable for lease/conveyance for recreational or public purposes under the provisions of the Recreation and Public Purposes Act, as amended (43 U.S.C. 869 et seq.). Clark County School District proposes to use the land for a high school.

Mount Diablo Meridian, Nevada

T. 22 S., R. 61 E.,

Sec. 34, S½NW¼SW¼, N½N½SW¼SW¼, SW¼NE¼SW¼, N½NW¼SE¼SW¼.

Containing 45.0 acres, more or less, located at Bermuda Road and W. Maryland Parkway.

The land is not required for any federal purpose. The lease/conveyance is consistent with current Bureau planning for this area and would be in the public interest. The lease/patents, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe and will be subject to:

1. Easements in accordance with the Clark County Transportation Plan.

2. Those rights for water pipeline purposes which have been granted to Las Vegas Valley Water District by Permit No. N-61268 under the Act of October 21, 1976 (43 U.S.C. 1761).

3. Those rights for highway purposes which have been granted to Nevada Department of Transportation by Permit Nev-031066 under the Act of November 9, 1921 (42 Stat. 0216).

Detailed information concerning this action is available for review at the office of the Bureau of Land Management, Las Vegas Field Office, 4765 Vegas Drive, Las Vegas, Nevada.

On November 22, 2000, the above described land will be segregated from all other forms of appropriation under the public land laws, including the general mining laws, except for lease/conveyance under the Recreation and Public Purposes Act, leasing under the mineral leasing laws, and disposal under the mineral material disposal laws.

On or before January 8, 2001, interested parties may submit comments regarding the proposed lease/conveyance for classification of the lands to the Las Vegas Field Manager, Las Vegas Field Office, 4765 Vegas Drive, Las Vegas, Nevada 89108.

Classification Comments

Interested parties may submit comments involving the suitability of the land for a high school. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for a high school. Any adverse comments will be reviewed by the State Director. In the absence of any adverse comments, the classification of the land described in this Notice will become effective on January 22, 2001. The lands will not be offered for lease/conveyance until after the classification becomes effective.

Dated: November 14, 2000.
Rex Wells,
Assistant Field Manager, Division of Lands, Las Vegas, NV.

[FR Doc. 00-29797 Filed 11-21-00; 8:45 am]

BILLING CODE 4510-HC-P